DEPARTMENT OF HEALTH AND HUMAN SERVICES

Centers for Disease Control and Prevention

[60Day-04-14]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-E11, Atlanta, GA 30333. Written comments should be received within 60 days of this notice.

Proposed Project: Ecology of Bats in Households: A Case-Control Study for Assessing Knowledge, Attitudes, and Health Risks—New—National Center for Infectious Diseases (NCID), Centers for Disease Control and Prevention (CDC).

Bats are associated with many different kinds of infectious diseases that may be pathogenic to humans. Anthropogenic change from urban sprawl provides new roosts for bats in homes and buildings while reducing available natural roosts and putting humans in more frequent contact with bats. The largest public health concern with respect to bat exposure is the transmission of rabies virus—about 75% of human rabies deaths are from bat-associated rabies variants. The current U.S. guidelines for animal rabies prevention and control recommend that bats be excluded from houses and adjacent structures to prevent direct association with humans. While direct association with bats is certainly a risk factor for rabies transmission, little is known about the effects of indirect association with bats and potential adverse health effects. This is of public health concern because many organizations actually promote interactions between bats and humans, without consideration of public health consequences.

The proposed study consists of an investigator-administered questionnaire conducted on site. The survey asks individuals to describe knowledge and attitudes of household members toward cohabitation with bats, including knowledge of rabies risk, general attitude toward bats, and attempts to exterminate the roosts. The questionnaire will also evaluate health outcomes among household members and their pets by administering a survey focused on general well-being, incidence of allergies, frequency and nature of hospital/clinic visits, frequency of bat and bat-ectoparasite exposure, and frequency of post-exposure prophylaxis for rabies. We will also conduct a serological survey for evidence of exposure to bat-associated infectious diseases.

The list of households with roosts is provided by Colorado State University bat researchers, identified through radio-tagging of bats. We plan to improve the knowledge of the ecology of bats and associated rabies transmission by assimilating rabies prevalence data in a bat population with data regarding the roost ecology and bat/human interaction ecology in a rapidly sprawling suburban area in Ft. Collins, Colorado. There is no cost to the respondents.

Respondents | Number of respondents | Number of responses/ respondent | Average burden/response (in hours) | Total burden (in hours)
Telephone enrollment | 150 | 1 | 6/60 | 15
Investigator-administered survey | 600 | 1 | 45/60 | 450
Total |  |  |  | 465

Dated: December 2, 2003.
Alvin Hall,
Director, Management Analysis and Services Office Centers for Disease Control and Prevention.

[FR Doc. 03-30678 Filed 12-10-03; 8:45 am]

BILLING CODE 4163-18-P